DEPARTMENT OF HEALTH AND HUMAN SERVICES

Health Resources and Services Administration

Council on Graduate Medical Education

AGENCY: Health Resources and Service Administration (HRSA), Department of Health and Human Services (HHS).

ACTION: Notice of meeting.

SUMMARY: In accordance with the Federal Advisory Committee Act, this notice announces that the Council on Graduate Medical Education (COGME) will hold a public meeting.

DATES AND TIME: January 29, 2018, 8:30 a.m.-5:00 p.m., and January 30, 2018, 8:30 a.m.-3:00 p.m. ET.

ADDRESSES: The address for the meeting is 5600 Fishers Lane, Rockville, Maryland 20857. Participants may also access the meeting through teleconference and webinar.

• The teleconference call-in number is 1-800-619-2521, passcode: 9271697.

• The webinar link is https://hrsa.connectsolutions.com/cogme-council/.

FOR FURTHER INFORMATION CONTACT: Anyone requesting information regarding COGME should contact Kennita R. Carter, MD, Designated Federal Officer, Division of Medicine and Dentistry, Bureau of Health Workforce, HRSA, in one of three ways: (1) Send a request to the following address: Dr. Kennita R. Carter, Designated Federal Officer, Division of Medicine and Dentistry, HRSA, 5600 Fishers Lane, 15N-116, Rockville, Maryland 20857; (2) call 301-945-3505; or (3) send an email to KCarter@hrsa.gov.

SUPPLEMENTARY INFORMATION: COGME provides advice and recommendations to the Secretary of HHS and to Congress on a range of issues, including the nature and financing of medical education training, the development of performance measures and longitudinal evaluation methods of medical education programs, foreign medical school graduates, and the supply and distribution of the physician workforce in the United States, including any projected shortages or excesses.

During the meeting, the COGME members will discuss the strategic directions of the Council and issues related to physician workforce development and graduate medical education, leading to the selection of a topic for its 24th Report to Congress. COGME submits its reports to the Secretary of HHS; the Senate Committee on Health, Education, Labor, and Pensions; and the House of Representatives Committee on Energy and Commerce. COGME will also discuss the HRSA proposal for a quality bonus system of payments for eligible hospitals within the Children's Hospital Graduate Medical Education (CHGME) program.

HRSA will post the agenda on the COGME website at http://www.hrsa.gov/advisorycommittees/bhpradvisory/COGME prior to the meeting. Please note that agenda items are subject to change as priorities dictate.

Members of the public will have the opportunity to provide comments and may submit written statements in advance of the meeting. The committee will honor oral comments in the order requested and may be limited as time allows. Public participants should send requests to provide written statements or make oral comments to the COGME to Kennita R. Carter, MD, Designated Federal Officer, using the contact information above, at least three business days prior to the meeting.

The building at 5600 Fishers Lane, Rockville, MD 20857, requires a security screening for entry. To facilitate access to the building, individuals interested in attending the meeting should notify Dr. Kennita Carter at the contact information listed above at least three business days prior to the meeting. Individuals who plan to attend and who need special assistance, such as sign language interpretation or other reasonable accommodations, should notify Dr. Kennita Carter at the contact information listed above at least 10 business days prior to the meeting.

Amy McNulty,
Acting Director, Division of the Executive Secretariat.

[FR Doc. 2017-28015 Filed 12-27-17; 8:45 am]

BILLING CODE 4165-15-P